DEPARTMENT OF TRANSPORTATION

Office of the Secretary

Notice of Applications for Certificates of Public Convenience and Necessity and Foreign Air Carrier Permits Filed Under Subpart B (Formerly Subpart Q) During the Week Ending August 29, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0262.

Date Filed: August 27, 2008.

Due Date for Answers, Conforming Applications, or Motion to Modify Scope: September 17, 2008.

Description: Application of Aguadilla Airline Services, Inc. requesting authority to engage in scheduled passenger operations as a commuter air carrier.

Docket Number: DOT-OST-2006-24922.

Date Filed: August 29, 2008.

Due Date for Answers, Conforming Applications, or Motion to Modify Scope: September 19, 2008.

Description: Amendment of Jetstar Airway Pty. Limited to its application for a foreign air carrier permit adding authority to engage in: (i) Foreign scheduled and charter air transportation of persons, property and mail from points behind Australia via Australia and intermediate points to a point or points in the United States and beyond; (ii) foreign scheduled and charter transportation of property between any point or points in the United States and any other point or points; (iii) other charters pursuant to the prior approval requirements set forth in the Department's regulations governing charters.

Renee V. Wright,
Program Manager, Docket Operations, Federal Register Liaison.

[FR Doc. E8-21434 Filed 9-12-08; 8:45 am]

BILLING CODE 4910-9X-P